NATIONAL TRANSPORTATION SAFETY BOARD

Sunshine Act Meeting

Agenda

Time and Date: 9:30 a.m., Tuesday, September 14, 2004.

Place: NTSB Conference Center, 429 L'Enfant Plaza, SW., Washington, DC 20594.

Status: The one item is Open to the public.

Matter to be Considered:

5299N Most Wanted Safety Recommendations Program—2004 Update on State Issues.

News Media Contact: Telephone: (202) 314-6100.

Individuals requesting specific accommodations should contact Ms. Carolyn Dargan at (202) 314-6305 by Friday, September 10, 2004.

The public may view the meeting via a live or archived webcast by accessing a link under “News & Events” on the NTSB home page at www.ntsb.gov.

FOR FURTHER INFORMATION CONTACT: Vicky D'Onofrio, (202) 314-6410.

Dated: September 3, 2004.
Vicky D'Onofrio,
Federal Register Liaison Officer.

[FR Doc. 04-20393 Filed 9-3-04; 10:56 am]

BILLING CODE 7533-01-M